FEDERAL ELECTION COMMISSION

Sunshine Act Meetings

AGENCY: Federal Election Commission.

DATE and TIME: Thursday, February 9, 2017 at 10:00 a.m.

PLACE: 999 E Street NW., Washington, DC (Ninth Floor).

STATUS: This meeting will be open to the public.

ITEMS TO BE DISCUSSED:

Proposed Final Audit Report on the Conservative Campaign Committee (A13-15)

Audit Division Recommendation Memorandum on the Kansas Democratic Party (KDP) (A13-08)

Audit Division Recommendation Memorandum on Kind for Congress Committee (KFCC) (A15-02)

Management and Administrative Matters

Individuals who plan to attend and require special assistance, such as sign language interpretation or other reasonable accommodations, should contact Dayna C. Brown, Acting Secretary and Clerk, at (202) 694-1040, at least 72 hours prior to the meeting date.

PERSON TO CONTACT FOR INFORMATION: Judith Ingram, Press Officer, Telephone: (202) 694-1220.

Dayna C. Brown,
Acting Secretary and Clerk of the Commission.

[FR Doc. 2017-02513 Filed 2-2-17; 4:15 pm]

BILLING CODE 6715-01-P